DEPARTMENT OF HEALTH AND HUMAN SERVICES

Administration for Children and Families

Proposed Information Collection Activity; Provision of Child Support Services in IV-D Cases Under the Hague Child Support Convention (OMB #0970-0488)

AGENCY: Office of Child Support Enforcement, Administration for Children and Families, Department of Health and Human Services.

ACTION: Request for public comments.

SUMMARY: The Office of Child Support Enforcement (OCSE), Administration for Children and Families (ACF), is requesting a three-year extension with proposed revisions to the Hague Child Support Forms (OMB #0970-0488, expiration February 28, 2023). There are two new forms being incorporated.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: On January 1, 2017, the 2007 Hague Convention on the International Recovery of Child Support and Other Forms of Family Maintenance (the Convention) entered into force for the United States. This multilateral Convention contains groundbreaking provisions that, on a worldwide scale, establish uniform, simple, fast, and inexpensive procedures for the processing of international child support cases. Under the Convention, U.S. states process child support cases with other countries that have ratified the Convention under the requirements of the Convention and Article 7 of the Uniform Interstate Family Support Act (UIFSA 2008). In order to comply with the Convention, the U.S. implements the Convention's case processing forms.

Newly incorporated into this information collection are two additional forms, Request for Specific Measures and Request for Specific Measures—Response, which were approved in June 2022 for use under the Convention. The other forms remain unchanged.

State and federal law require states to use federally approved case processing forms. Section 311(b) of UIFSA 2008, which has been enacted by all 50 states, the District of Columbia, Guam, Puerto Rico, and the Virgin Islands, requires states to use forms mandated by federal law. 45 CFR 303.7 also requires child support programs to use federally approved forms in intergovernmental IV-D cases unless a country has provided alternative forms as a part of its chapter in a Caseworker's Guide to Processing Cases with Foreign Reciprocating Countries.

Respondents: State agencies administering a child support program under title IV-D of the Social Security Act.

Annual Burden Estimates
Instrument | Total number of respondents | Total number of responses per respondent | Average burden hours per response | Annual burden hours
Annex I: Transmittal form under Article 12(2) | 54 | 41 | 1 | 2,214
Annex II: Acknowledgment form under Article 12(3) | 54 | 81 | .5 | 2,187
Annex A: Application for Recognition or Recognition and Enforcement, including restricted information on the applicant | 54 | 16 | .5 | 432
Annex A: Abstract of Decision | 54 | 4 | 1 | 216
Annex A: Statement of Enforceability of Decision | 54 | 16 | 0.17 | 147
Annex A: Statement of Proper Notice | 54 | 4 | .5 | 108
Annex A: Status of Application Report—Article 12 | 54 | 34 | .33 | 606
Annex B: Application for Enforcement of a Decision Made or Recognized in the Requested State, including restricted information on the applicant | 54 | 17 | .5 | 459
Annex B: Status of Application Report—Article 12 | 54 | 33 | .33 | 588
Annex C: Application for Establishment of a Decision, including restricted information on the Applicant | 54 | 4 | .5 | 108
Annex C: Status of Application Report—Article 12 | 54 | 8 | .33 | 143
Annex D: Application for Modification of a Decision, including Restricted Information on the Applicant | 54 | 4 | .5 | 108
Annex D: Status of Application Report—Article 12 | 54 | 8 | .33 | 143
Annex E: Financial Circumstances Form | 54 | 41 | 2 | 4,428
Annex F: Request for Specific Measures—Article 7(1) | 54 | 2 | .17 | 18
Annex F: Request for Specific Measures—Response—Article 7(1) | 54 | 8 | .17 | 73

Estimated Total Annual Burden Hours: 11,978.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 654(20) and 666(f).

Mary B. Jones,
ACF/OPRE Certifying Officer.

[FR Doc. 2022-16068 Filed 7-26-22; 8:45 am]

BILLING CODE 4184-41-P